DEPARTMENT OF COMMERCE

International Trade Administration

[A-201-836, A-489-815, A-570-914, A-580-859]

Final Results of Expedited Sunset Reviews of Antidumping Duty Orders: Light-Walled Rectangular Pipe and Tube From Mexico, Turkey, the People's Republic of China, and the Republic of Korea

AGENCY: Import Administration, International Trade Administration, Department of Commerce.

SUMMARY: On April 2, 2013, the Department of Commerce (the Department) initiated the first sunset reviews of the antidumping duty orders on light-walled rectangular pipe and tube (light-walled pipe and tube) from the Mexico, Turkey, the People's Republic of China (PRC), and the Republic of Korea (Korea) ¹ (collectively, the Orders) pursuant to section 751(c) of the Tariff Act of 1930, as amended (the Act).² On the basis of a notice of intent to participate, and an adequate substantive response filed on behalf of domestic interested parties, as well as a lack of response from respondent interested parties, the Department conducted expedited (120-day) sunset reviews of the Orders pursuant to section 751(c)(3)(B) of the Act and 19 CFR 351.218(e)(1)(ii)(A) and (C)(2). As a result of these sunset reviews, the Department finds that revocation of the Orders would likely lead to continuation or recurrence of dumping at the levels indicated in the “Final Results of Review” section of this notice.

¹ See Light-Walled Rectangular Pipe and Tube from Mexico, the People's Republic of China, and the Republic of Korea: Antidumping Duty Orders; Light-Walled Rectangular Pipe and Tube from the Republic of Korea: Notice of Amended Final Determination of Sales at Less Than Fair Value, 73 FR 45403, 45405 (August 5, 2008); Notice of Antidumping Duty Order: Light-Walled Rectangular Pipe and Tube From Turkey, 73 FR 31065 (May 30, 2008).

² See Initiation of Five-Year (“Sunset”) Review, 78 FR 19647 (April 2, 2013) (Initiation).

DATES: Effective Date: August 6, 2013.

FOR FURTHER INFORMATION CONTACT: Patrick Edwards or Angelica Mendoza, AD/CVD Operations, Office 7, Import Administration, International Trade Administration, U.S. Department of Commerce, 14th Street and Constitution Avenue NW., Washington, DC 20230; telephone: 202-482-8029 or 202-482-3019, respectively.

SUPPLEMENTARY INFORMATION:

Background

On April 2, 2013, the Department initiated sunset reviews of the Orders pursuant to section 751(c) of the Act.³ On April 12, 2013, the Department received notices of intent to participate from the following domestic interested parties: Bull Moose Tube Company, California Steel and Tube, Hannibal Industries, JMC Steel Group, Maruichi American Corporation, Searing Industries, Southland Tube, and Western Tube and Conduit (collectively, the domestic interested parties), within the deadline specified in 19 CFR 351.218(d)(1)(i).⁴ The domestic interested parties claimed interested party status under section 771(9)(c) of the Act, as U.S. manufacturers of light-walled pipe and tube. On May 1, 2013, the Department received adequate substantive responses from the domestic interested parties within the 30-day deadline specified in 19 CFR 351.218(d)(3)(i).⁵ The Department received no responses from producers or exporters of light-walled pipe and tube from any of the countries subject to these sunset reviews. While the Department received general comments from the Government of Turkey (GOT) concerning the Turkish market for, and the production and exportation of, light-walled pipe and tube products, the Department previously had informed the GOT that such comments, while permitted, would not constitute substantive responses from Turkish producers, because these sunset reviews concern the antidumping duty order (and not a countervailing duty order under 19 CFR 351.218(e)(1)(ii)(B)).⁶

³ See Initiation.

⁴ See Letters of Intent to Participate from the domestic interested parties, to Acting Secretary Rebecca Blank, titled “Light Walled Rectangular Pipe and Tube from Mexico, First Review,” “Light Walled Rectangular Pipe and Tube from Turkey, First Review,” “Light Walled Rectangular Pipe and Tube from the People's Republic of China, First Review,” and “Light Walled Rectangular Pipe and Tube from Korea, First Review,” all dated April 12, 2013.

⁵ See Letters from domestic interested parties, to Acting Secretary Rebecca Blank, titled “Light-Walled Rectangular Pipe and Tube from Mexico, First Review: Substantive Response to Notice of Initiation;” “Light-Walled Rectangular Pipe and Tube from Turkey, First Review: Substantive Response to Notice of Initiation;” “Light-Walled Rectangular Pipe and Tube from China, First Review: Substantive Response to Notice of Initiation;” and “Light-Walled Rectangular Pipe and Tube from Korea, First Review: Substantive Response to Notice of Initiation,” all dated May 1, 2013.

⁶ See Letter from the Directorate of Exports, Ministry of Economy, Republic of Turkey, to the Secretary of Commerce, titled “Substantive Response of the Government of Turkey in the Antidumping Duty 1st Sunset Review Involving Light-Walled Rectangular Pipe and Tube from Turkey,” dated April 30, 2013; see also Letter from Angelica Mendoza, Program Manager, to Tarik Sönmez, General Director, Directorate General for Exports, Ministry of Economy, titled “First Sunset Review of the Antidumping Duty Order on Light-Walled Rectangular Pipe and Tube (LWRPT) from Turkey: Time Extension Request for Substantive Responses,” dated April 25, 2013.

Based on the submissions received and pursuant to section 751(c)(3)(B) of the Act and 19 CFR 351.218(e)(1)(ii)(C)(2), these sunset reviews were conducted on an expedited basis.

Scope of Orders

The merchandise subject to the Orders is certain welded carbon-quality light-walled steel pipe and tube. The product is currently classified under the Harmonized Tariff Schedule of the United States (HTSUS) subheadings 7306.61.50.00 and 7306.61.70.60. While HTSUS subheadings are provided for convenience and customs purposes, the written description of the scope of the Orders is dispositive.⁷

⁷ See Memorandum from Christian Marsh, to Paul Piquado, “Final Results of the Expedited First Five-Year (Sunset) Reviews of the Antidumping Duty Orders on Light-Walled Rectangular Pipe and Tube from Mexico, Turkey, the People's Republic of China, and the Republic of South Korea” (July 31, 2013) (Issues and Decision Memorandum), dated concurrent with and adopted by this notice for a complete description of the Scope of the Orders.

Analysis of Comments Received

All issues raised in this review are addressed in the Issues and Decision Memorandum, including the likelihood of a continuation or recurrence of dumping in the event of revocation, as well as the magnitude of dumping margins likely to prevail upon revocation. A complete discussion of the issues raised is available in the Issues and Decision Memorandum, which is a public document on file in the Central Records Unit (CRU), room 7046 of the main Department of Commerce building, as well as electronically via Import Administration's Antidumping and Countervailing Duty Centralized Electronic Service System (IA ACCESS). IA ACCESS is available to registered users at http://iaaccess.trade.gov, and available to all parties in the CRU. In addition, a complete version of the Issues and Decision Memorandum can be accessed directly on the Internet at http://ia.ita.doc.gov/frn. The signed and electronic versions of the Issues and Decision Memorandum are identical in content.

Final Results of Review

The Department determines that revocation of the Orders would be likely to lead to a continuation or recurrence of dumping, with the following dumping margin magnitudes likely to prevail:

| Rate (percent)
Turkey (A-489-815):
Producer/Exporter:
Guven Boru Profil Sanayii ve Ticaret Limited Sirketi | 41.71
MMZ Onur Boru Profil Uretim San. ve Tic. A.S. | 41.71
Anadolu Boru | 41.71
Ayata Metal Industry | 41.71
Goktas Tube/Goktas Metal | 41.71
Kalibre Boru Sanayi ve Ticaret A.S. | 41.71
Kerim Celik Mamulleri Imalat ve Ticaret | 41.71
Ozgur Boru | 41.71
Ozmak Makina ve Elektrik Sanayi | 41.71
Seamless Steel Tube and Pipe Co. (Celbor) | 41.71
Umran Steel Pipe Inc. | 41.71
Yusan Industries, Ltd. | 41.71
Borusan Mannesmann Boru | 27.04
Erbosan Erciyas Boru Sanayii ve Ticaret A.S. | 27.04
Noksel Steel Pipe Co. | 27.04
Ozborsan Boru San. ve Tic. A.S. | 27.04
Ozdemir Boru Sanayi ve Ticaret Ltd. Sti. | 27.04
Toselik Profil ve Sac End. A.S. | 27.04
Yucel Boru ve Profil Endustrisi A.S. | 27.04
All Others | 27.04
Mexico (A-291-836):
Producer/Exporter:
Maquilacero S.A. de C.V. | 2.40
Productos Laminados de Monterrey S.A. de C.V. | 5.12
Arco Metal S.A. de C.V. | 3.76
Hylsa S.A. de C.V. | 3.76
Internacional de Aceros S.A. de C.V. | 3.76
Perfiles y Herrajes LM, S.A. de C.V. | 3.76
Regiomontana de Perfiles y Tubos | 3.76
Talleres Acero Rey S.A. de C.V. | 3.76
Tuberia Laguna S.A. de C.V. | 3.76
Industrias Monterrey S.A. de C.V. | 11.50
Nacional de Acero S.A. de C.V. | 11.50
PEASA-Productos Especializados de Acero | 11.50
Tuberias Aspe | 11.50
Tuberias y Derivados S.A. de C.V. | 11.50
All Others | 3.76
People's Republic of China (A-570-914):
Exporter:
Zhangjiagang Zhongyuan Pipe-Making Co., Ltd. | 255.07
Kunshan Lets Win Steel Machinery Co., Ltd. | 247.90
Wuxi Baishun Steel Pipe Co., Ltd. | 247.90
Guangdong Walsall Steel Pipe Industrial Co., Ltd. | 247.90
Wuxi Worldunion Trading Co., Ltd. | 247.90
Weifang East Steel Pipe Co., Ltd. | 247.90
Jiangyin Jianye Metal Products Co., Ltd. | 247.90
PRC-wide entity | 255.07
Republic of Korea (A-580-859):
Producer/Exporter:
Dong-A Steel Pipe Co. Ltd. | 30.66
HiSteel Co. Ltd. | 30.66
Jinbang Steel Co. Ltd. | 30.66
Joong Won | 30.66
Miju Steel Mfg. Co., Ltd. | 30.66
Yujin Steel Industry Co. | 30.66
Ahshin Pipe & Tube | 30.66
Han Gyu Rae Steel Co., Ltd. | 30.66
Kukje Steel Co., Ltd. | 30.66
SeAH Steel Corporation, Ltd. | 15.79
All Others ⁸ | 15.79

⁸ Nexteel Co., Ltd. has been excluded from the Korean order.

Administrative Protective Order

This notice also serves as the only reminder to parties subject to administrative protective orders (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

The Department is issuing and publishing these results and notice in accordance with sections 751(c), 752(c), and 777(i)(1) of the Act and 19 CFR 351.218.

Dated: July 30, 2013.
Paul Piquado,
Assistant Secretary for Import Administration.

[FR Doc. 2013-18973 Filed 8-5-13; 8:45 am]

BILLING CODE 3510-DS-P